FEDERAL ELECTION COMMISSION

11 CFR Parts 100 and 110

[NOTICE 2003—5]

Leadership PACs

AGENCY: Federal Election Commission.

ACTION: Notice of public hearing.

SUMMARY: The Federal Election Commission is announcing a public hearing on proposed rules to address leadership PACs, which are unauthorized committees that are associated with a Federal candidate or officeholder. Further information is provided in the supplementary information that follows.

DATES: The hearing will be held at 9:30 a.m. on Wednesday, February 26, 2003. The Commission is no longer accepting requests to testify.

ADDRESSES: Commission hearings are held in the Commission's ninth floor meeting room, 999 E Street, NW., Washington, DC.

FOR FURTHER INFORMATION CONTACT: Ms. Mai T. Dinh, Acting Assistant General Counsel, Mr. J. Duane Pugh, Jr., Acting Special Assistant General Counsel, or Mr. Anthony T. Buckley, Attorney, 999 E Street, NW., Washington, DC 20463, (202) 694-1650 or (800) 424-9530.

SUPPLEMENTARY INFORMATION: On December 26, 2002, the Commission published a Notice of Proposed Rulemaking [”NPRM”] proposing three alternative sets of rules addressing political committees that are associated with a Federal candidate or officeholder, and potential limitations to the contributions that such committees may accept and make. 67 FR 78753 (Dec. 26, 2002). The comment period for the NPRM ended on January 31, 2003. Eight sets of comments were received by the Commission in response to the NPRM. Seven commenters, who submitted six of the sets of comments, requested to testify at a public hearing if one is held.

After considering these requests and the other comments received to date in response to the NPRM, the Commission believes a public hearing would be helpful in considering the issues raised in the rulemaking. As the Commission stated in the NPRM, the hearing will be held at 9:30 a.m. on February 26, 2003.

Dated: February 11, 2003.
Ellen L. Weintraub,
Chair, Federal Election Commission.

[FR Doc. 03-3834 Filed 2-14-03; 8:45 am]

BILLING CODE 6715-01-P